ENVIRONMENTAL PROTECTION AGENCY

40 CFR Part 89

[AMS-FRL-7498-2]

Control of Emissions From New Nonroad Diesel Engines: Amendments to the Nonroad Engine Definition: Withdrawal of Direct Final Rule

AGENCY: Environmental Protection Agency (EPA).

ACTION: Withdrawal of direct final rule.

SUMMARY: Due to receipt of adverse comments, EPA is withdrawing amendments that were included in the direct final rule published on April 11, 2003 (68 FR 17741), amending the definition of nonroad engines to also include all engines certified as part of a nonroad engine family if used in agricultural applications in the State of California. Because this amendment is being withdrawn, the existing definition regarding nonroad engines remains in effect. We will address the adverse comments in a subsequent final action based on the parallel proposal published on April 11, 2003 (68 FR 17763).

DATES: The following provision of the direct final rule published at 68 FR 17741 (April 11, 2003) is withdrawn as of May 14, 2003:

(1) The revision to 40 CFR 89.2, definition of “Nonroad engine”, paragraph (1)(iv).

ADDRESSES: All comments and materials relevant to today's action are contained in Public Docket No. OAR-2003-0046 at the following address: U.S. Environmental Protection Agency (EPA), EPA Docket Center (EPA/DC), Air and Radiation Docket, Mail Code 6102T, 1200 Pennsylvania Avenue, NW., Washington, DC 20460.

Docket: Materials relevant to this rulemaking are contained in Public Docket Number OAR-2003-0046 at the following address: EPA Docket Center (EPA/DC), Public Reading Room, Room B102, EPA West Building, 1301 Constitution Avenue, NW., Washington DC. The EPA Docket Center Public Reading Room is open from 8:30 a.m. to 4:30 p.m., Monday through Friday, except on government holidays. You can reach the Reading Room by telephone at (202) 566-1742, and by facsimile at (202) 566-1741. The telephone number for the Air Docket is (202) 566-1742. You may be charged a reasonable fee for photocopying docket materials, as provided in 40 CFR part 2.

FOR FURTHER INFORMATION CONTACT: Robert Larson, U.S. EPA, National Vehicle and Fuel Emissions Laboratory, Transportation and Regional Programs Division, 2000 Traverwood Drive, Ann Arbor, MI 48105; telephone (734) 214-4277, fax (734) 214-4956, e-mail larson.robert@epa.gov.

SUPPLEMENTARY INFORMATION: We stated in the direct final rule published at 68 FR 17741 (April 11, 2003) that if we received adverse comment on the amendment, by May 12, 2003, we would publish a timely withdrawal in the Federal Register. We have received adverse comments on the amendments to 40 CFR 89.2.

As a result of the adverse comments received, we are withdrawing the amendment to § 89.2. We intend to consider the issues raised by the comments in a final action based on the concurrent notice of proposed rulemaking (68 FR 17763).

List of Subjects in 40 CFR Part 89

Environmental protection, Administrative practice and procedure, Motor vehicle pollution.

Jeffrey R. Holmstead,
Assistant Administrator for Office of Air and Radiation.

[FR Doc. 03-12021 Filed 5-13-03; 8:45 am]

BILLING CODE 6560-50-P